DEPARTMENT OF COMMERCE

National Oceanic and Atmospheric Administration

50 CFR Part 635

[I.D. 070803B]

Atlantic Highly Migratory Species; Swordfish and Bluefin Tuna Quotas; Public Hearings

AGENCY: National Marine Fisheries Service (NMFS), National Oceanic and Atmospheric Administration (NOAA), Commerce.

ACTION: Notice of public hearings.

SUMMARY: NMFS will hold three public hearings to receive comments from fishery participants and other members of the public regarding two proposed regulations. The first proposed rule, previously published in the Federal Register on June 20, 2003, would implement the recommendations from the 2002 meeting of the International Commission for the Conservation of Atlantic Tunas (ICCAT) regarding North and South Atlantic swordfish. The second proposed rule, previously published in the Federal Register on July 10, 2003, would implement the 2003 fishing year specifications for the Atlantic bluefin tuna (BFT) fishery to set BFT quotas for each of the established fishing categories, to set General category effort controls, to allocate 25 metric tons of BFT to account for incidental catch of BFT by pelagic longline vessels in the vicinity of the management boundary area, to define the management boundary area and applicable restrictions, and to revise permit requirements to allow General category vessels to participate in registered recreational HMS fishing tournaments and to allow permit applicants a 10-day period to make permit category changes to correct errors. To accommodate people unable to attend a hearing or wishing to provide written comments, NMFS also solicits written comments on these proposed rules.

DATES: The public hearings are scheduled as follows:

1. Tuesday, July 29, 2003-Gloucester, MA 7-9 p.m.

2. Tuesday, July 29, 2003-Madeira Beach, FL 7-9 p.m.

3. Friday, August 1, 2003-Silver Spring, MD 1-3 p.m.

Written comments on the proposed rule regarding swordfish must be received by 5 p.m. on August 4, 2003. Written comments on the proposed rule regarding bluefin tuna must be received on or before August 8, 2003.

ADDRESSES: The locations for the public hearings are as follows:

1. Sawyer Free Library, 2 Dale Ave, Gloucester, MA 01930

2. City Hall, 300 Municipal Drive, Madeira Beach, FL 33708

3. NOAA Science Center, 1301 East-West Highway, Silver Spring, MD 20910

Written comments on the swordfish proposed rule should be sent to: Christopher Rogers, Chief, Highly Migratory Species Management Division, Office of Sustainable Fisheries (F/SF1), NMFS, 1315 East-West Highway, Silver Spring, MD 20910. Comments also may be sent via facsimile (fax) to 301-713-1917. Written comments on the bluefin tuna proposed rule should be sent to: Brad McHale, Highly Migratory Species Management Division, Office of Sustainable Fisheries (F/SF1), NMFS, One Blackburn Dr. Gloucester, MA 01930. Comments also may be sent via facsimile (fax) to 978-281-9340. Comments will not be accepted if submitted via e-mail or the Internet.

FOR FURTHER INFORMATION CONTACT: Tyson Kade at 301-713-2347 regarding the proposed rule for swordfish or Brad McHale at 978- 281-9260 regarding the proposed rule for bluefin tuna.

SUPPLEMENTARY INFORMATION: The proposed regulations that are the subject of the hearings are necessary to address requirements of the Magnuson-Stevens Fishery Conservation and Management Act for the conservation and management of HMS.Complete descriptions of the measures, and the purpose and need for the proposed actions, are contained in the proposed rules and are not repeated here. The swordfish proposed rule published June 20, 2003 (68 FR 36967), and the bluefin tuna proposed rule published July 10, 2003 (68 FR 41103). Copies of the proposed rule may be obtained by writing (see ADDRESSES) or by calling the listed contact person (see FOR FURTHER INFORMATION CONTACT).

Public Hearings

The hearings for each proposed rule will be conducted jointly at the identified locations (see ADDRESSES). NMFS intends to dedicate half of the hearing time to each rule. The public is reminded that NMFS expects participants at the public hearings to conduct themselves appropriately. At the beginning of each public hearing, a NMFS representative will explain the ground rules (e.g., alcohol is prohibited from the hearing room; attendees will be called to give their comments in the order in which they registered to speak; each attendee will have an equal amount of time to speak; and attendees should not interrupt one another). The NMFS representative will attempt to structure the hearing so that all attending members of the public will be able to comment, if they so choose, regardless of the controversial nature of the subject(s). Attendees are expected to respect the ground rules, and, if they do not, they will be asked to leave the hearing.

Special Accommodations

The public hearings are physically accessible to people with disabilities. Requests for sign language interpretation or other auxiliary aids should be directed to Tyson Kade (see FOR FURTHER INFORMATION CONTACT) at least 7 days prior to the hearing or meeting.

Dated: July 9, 2003.
Bruce C. Morehead,
Acting Director, Office of Sustainable Fisheries, National Marine Fisheries Service.

[FR Doc. 03-17867 Filed 7-14-03; 8:45 am]

BILLING CODE 3510-22-S